INTERNATIONAL TRADE COMMISSION

[Inv. Nos. 701-TA-430B- and 731-TA-1019B]

Hard Red Spring Wheat From Canada; Notice of Revised Schedule for Remand Proceeding

AGENCY: U.S. International Trade Commission.

ACTION: Notice.

SUMMARY: The U.S. International Trade Commission (the Commission) hereby gives notice of a revised schedule for the proceedings in the remand investigation ordered by a binational panel established under Article 1904 of the North American Free trade Agreement (NAFTA) in Hard Red Spring Wheat from Canada, Inv. Nos. 701-TA-430B and 731-TA-1019B (Final).

FOR FURTHER INFORMATION CONTACT: Christopher J. Cassise, Office of Investigations, telephone 202-708-5408 or Michael Diehl, Esq., Office of the General Counsel, telephone (202) 205-3095, U.S. International Trade Commission, 500 E Street, SW., Washington, DC 20436. Hearing-impaired persons are advised that information on this matter can be obtained by contacting the Commission's TDD terminal on (202) 205-1810. The public record for this investigation may be viewed on the Commission's electronic docket (EDIS) at http://edis.usitc.gov. General information concerning the Commission may also be obtained by accessing its Internet server (http://www.usitc.gov).

SUPPLEMENTARY INFORMATION:

Background

In October 2003, the Commission determined, by a two-to-two vote, that an industry in the United States was materially injured by reason of subject imports of hard red spring wheat from Canada. On June 7, 2005, a binational panel formed under Article 1904 of the NAFTA issued a decision in its review of the Commission's determination. The panel remanded the determination to the Commission to issue its remand determination within 90 days of the issuance of the Panel's decision, i.e., by September 6, 2005.

On July 6, 2005, the Commission published in the Federal Register (70 FR 38981) a notice of the remand proceeding, of the Commission's decision to reopen the administrative record, and of the schedule for written submissions.

On July 7, 2005, the Panel granted a consent motion to extend the time period for filing the remand determination by 30 days to October 5, 2005.

Participation in the Remand Proceedings

Parties are referred to the Commission's July 6, 2005 notice with respect to participation in the remand proceedings.

Revised Schedule for Written Submissions

Given the extension of time granted by the Panel, the schedule for written submissions is revised as follows. Information obtained during the remand investigation will be released to the parties under the administrative protective order (“APO”) issued in the original investigations on or about July 22, 2005. The remand staff report will be placed in the nonpublic record on August 16, 2005, and a public version will be issued thereafter, pursuant to Section 207.22 of the Commission's rules.

Parties that are participating in the remand proceedings may file comments by August 23, 2005 with respect to how the record, as supplemented, bears on the issues presented by the Panel's remand instructions. No additional factual information may be included in such comments. Comments shall not exceed 30 pages of textual material, double-spaced and single-sided, on stationery measuring 8½ × inches.

Parties that are participating in the remand proceedings may also file final comments on or before September 2, 2005. Final comments are limited to providing commentary on party comments filed by August 23, 2005 and with respect to new information, if any, released on or after August 23, 2005. No additional factual information may be included in such final comments. Final comments shall not exceed 15 pages of textual material, double-spaced and single-sided, on stationery measuring 8½ × 11 inches.

All written submissions must conform with the provisions of section 201.8 of the Commission's rules; any submissions that contain business proprietary information (BPI) must also conform with the requirements of sections 201.6, 207.3, and 207.7 of the Commission's rules. The Commission rules do not authorize filing submissions with the Secretary by facsimile or electronic means, except to the extend permitted by section 201.8 of the Commission's rules, as amended, 67 FR 68036 (Nov. 8, 2002).

In accordance with sections 201.16(c) and 207.3 of the Commission's rules, each document filed by a party to the investigations must be served on all other parties to the investigations (as identified by either the public or updated BPI service list), and a certificate of service must be timely filed. The Secretary will not accept a document for filing without a certificate of service.

Parties are also advised to consult the Commission's Rules of Practice and Procedure, part 201, subparts A through E (19 CFR part 201), and part 207, subpart A (19 CFR part 207) for provisions of general applicability concerning written submissions to the Commission.

Authority: This action is taken under the authority of the Tariff Act of 1930, title VII.

By order of the Commission.
Issued: July 18, 2005.
Marilyn R. Abbott,
Secretary to the Commission.

[FR Doc. 05-14482 Filed 7-21-05; 8:45 am]

BILLING CODE 7020-02-M